DEPARTMENT OF ENERGY

Federal Energy Regulatory Commission

Combined Notice of Filings #1

June 20, 2005.

Take notice that the Commission received the following electric rate filings.

Docket Numbers: ER02-1884-002.

Applicants: Waterside Power, L.L.C.

Description: Waterside Power LLC submits its triennial updated market analysis and a revision to its market-based rate tariff to incorporate the change in status reporting requirements set forth in Order No. 652.

Filed Date: 06/13/2005.

Accession Number: 20050617-0012.

Comment Date: 5 p.m. Eastern Time on Tuesday, July 5, 2005.

Docket Numbers: ER02-2330-036.

Applicants: ISO New England Inc.

Description: ISO New England, Inc. submits its 11th Quarterly Status Report concerning the implementation of the Standard Market Design pursuant to FERC's 9/20/02 Order.

Filed Date: 06/13/2005.

Accession Number: 20050617-0010.

Comment Date: 5 p.m. Eastern Time on Tuesday, July 5, 2005.

Docket Numbers: ER04-106-012, ER04-691-049, EL04-104-047.

Applicants: Midwest Independent Transmission System Operator, Inc.

Description: Midwest Independent Transmission System Operator, Inc submits clean and redlined revisions to Tariff Sheet 1373 to its FERC Electric Tariff, Third Revised Volume No. 1 to correct the typographical error in its 5/16/05 compliance filing.

Filed Date: 06/15/2005.

Accession Number: 20050617-0008.

Comment Date: 5 p.m. Eastern Time on Wednesday, July 6, 2005.

Docket Numbers: ER04-230-010.

Applicants: New York Independent System Operator, Inc.

Description: Report on Status of Certain Demand Side Provisions of New York Independent System Operator, Inc. submitted in compliance with FERC's order issued 2/11/2004, 106 FERC 61,111 (2004).

Filed Date: 06/01/2005.

Accession Number: 20050601-5003.

Comment Date: 5 p.m. Eastern Time on Wednesday, June 24, 2005.

Docket Numbers: ER04-458-007.

Applicants: Midwest Independent Transmission System Operator, Inc.

Description: Midwest Independent Transmission System Operator, Inc. requests FERC to find that they have by virtue of its June 7 filing in Docket No. ER05-1085-000, it has complied to the extent necessary with the requirements of FERC's 4/15/2005 order, 111 FERC 61,052 (2005).

Filed Date: 06/14/2005.

Accession Number: 20050620-0148.

Comment Date: 5 p.m. Eastern Time on Tuesday, July 5, 2005.

Docket Numbers: ER04-691-050, EL04-104-048.

Applicants: Midwest Independent Transmission System Operator, Inc. and Public Utilities with Grandfathered Agreements in the Midwest ISO Region.

Description: Compliance Filing of the Midwest ISO Independent Market Monitor, Potomac Economics Ltd., pursuant to the FERC's order issued 4/15/2005, 111 FERC 61,043.

Filed Date: 06/15/2005.

Accession Number: 20050620-0156.

Comment Date: 5 p.m. Eastern Time on Wednesday, July 6, 2005.

Docket Numbers: ER05-1114-000.

Applicants: PPL Sundance Energy, LLC.

Description: PPL Sundance Energy, LLC submits a Notice of Cancellation of its FERC Electric Tariff, Original Volume 1, to be effective 5/14/05.

Filed Date: 06/13/2005.

Accession Number: 20050616-0159.

Comment Date: 5 p.m. Eastern Time on Tuesday, July 5, 2005.

Docket Numbers: ER05-1115-000.

Applicants: Mountain View Power Partners II, LLC.

Description: Mountain View Power Partners LLC on behalf of Mountain View Partners II, LLC submits a Notice of Cancellation of Mountain View II's market based rate tariff, amended on 6/15/2005 to reflect an effective date of 6/14/2005.

Filed Date: 06/13/2005, as amended on 6/15/2005.

Accession Number: 20050617-0006.

Comment Date: 5 p.m. Eastern Time on Wednesday, July 6, 2005.

Docket Numbers: ER05-1116-000.

Applicants: Entergy Services, Inc.

Description: Entergy Services Inc., acting as agent for the Entergy Operating Companies, submits an executed First Revised Network Integration Transmission Service Agreement with the City of Ruston, Louisiana under ER05-1116.

Filed Date: 06/14/2005.

Accession Number: 20050616-0160.

Comment Date: 5 p.m. Eastern Time on Tuesday, July 5, 2005.

Docket Numbers: ER05-1118-000.

Applicants: Southwest Power Pool, Inc.

Description: Southwest Power Pool, Inc. submits proposed revisions to its Open Access Transmission Tariff to incorporate Energy Imbalance Market and Market Monitoring Plan, to be effective 3/1/06 under ER05-1118.

Filed Date: 06/15/2005.

Accession Number: 20050617-0037.

Comment Date: 5 p.m. Eastern Time on Wednesday, July 6, 2005.

Docket Numbers: ER05-1119-000.

Applicants: Doswell Limited Partnership.

Description: Doswell Limited Partnership submits a Rate Schedule as part of the Doswell Limited Partnership, FERC Electric Tariff, First Revised Volume 1, setting forth its charges and its revenue requirement for providing cost-based Reactive Support and Voltage Control form Generation Sources Service from its 770 MW generating facility.

Filed Date: 06/15/2005.

Accession Number: 20050617-0002.

Docket Numbers: ER05-572-002, EL05-84-002.

Applicants: Niagara Mohawk Power Corporation and New York Independent System Operator, Inc.

Description: Niagara Mohawk Power Corp., a National Grid company submits its compliance filing pursuant to FERC's 4/15/05 Order, 111 FERC 61,048 (2005).

Filed Date: 06/15/2005.

Accession Number: 20050617-0007.

Comment Date: 5 p.m. Eastern Time on Wednesday, July 6, 2005.

Docket Numbers: ER05-660-002.

Applicants: Mill Run Windpower LLC.

Description: Mill Run Windpower LLC submits a supplement to its 4/29/05 supplement to its 2/28/08 request for authorization to amend its market-based rate tariff.

Filed Date: 06/10/2005.

Accession Number: 20050614-0197.

Comment Date: 5 p.m. Eastern Time on Friday, June 24, 2005.

Docket Numbers: ER05-831-001.

Applicants: East Texas Electric Cooperative, Inc.

Description: East Texas Electric Cooperative, Inc. amends its 4/13/05 filing by providing Notices of Cancellation for its filed rate tariffs as required by 18 CFR 35.15 and 131.53 and Order 614.

Filed Date: 05/27/2005.

Accession Number: 20050602-0064.

Comment Date: 5 p.m. Eastern Time on Friday, June 27, 2005.

Docket Numbers: ER95-692-000, ER97-1417-002, ER98-564-008, ER05-111-002.

Applicants: TransCanada Energy Ltd., TransCanada Power Marketing Ltd., TransCanada Hydro Northeast Inc.

Description: TransCanada Energy Ltd, TransCanada Power Marketing Ltd and TransCanada Hydro Northeast Inc. submit updated market power analyses.

Filed Date: 06/14/2005.

Accession Number: 20050616-0114.

Comment Date: 5 p.m. Eastern Time on Tuesday, July 5, 2005.

Docket Numbers: ER98-1150-006, EL05-87-000.

Applicants: Tucson Electric Power Company.

Description: Tucson Electric Power Co. submits a compliance filing pursuant to FERC's 4/14/05 Order, 111 FERC 61,037 (2005).

Filed Date: 06/13/2005.

Accession Number: 20050617-0011.

Comment Date: 5 p.m. Eastern Time on Tuesday, July 5, 2005.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Linda Mitry,
Deputy Secretary.

[FR Doc. E5-3313 Filed 6-24-05; 8:45 am]

BILLING CODE 6717-01-P